DEPARTMENT OF DEFENSE

Office of the Secretary

[Transmittal No. 22-35]

Arms Sales Notification

AGENCY: Defense Security Cooperation Agency, Department of Defense (DoD).

ACTION: Arms sales notice.

SUMMARY: The DoD is publishing the unclassified text of an arms sales notification.

FOR FURTHER INFORMATION CONTACT: Neil Hedlund at neil.g.hedlund.civ@mail.mil or (703) 697-9214.

SUPPLEMENTARY INFORMATION: This 36(b)(1) arms sales notification is published to fulfill the requirements of section 155 of Public Law 104-164 dated July 21, 1996. The following is a copy of a letter to the Speaker of the House of Representatives, Transmittal 22-35 with attached Policy Justification and Sensitivity of Technology.

Dated: June 2, 2024.
Aaron T. Siegel,
Alternate OSD Federal Register Liaison Officer, Department of Defense.

BILLING CODE 6001-FR-P

BILLING CODE 6001-FR-C

Transmittal No. 22-35

Notice of Proposed Issuance of Letter of Offer Pursuant to Section 36(b)(1) of the Arms Export Control Act, as amended

(i) Prospective Purchaser: Government of Estonia

(ii) Total Estimated Value:

Major Defense Equipment * | $455 million
Other | $ 45 million
Total | $500 million

Funding Source: National Funds

(iii) Description and Quantity or Quantities of Articles or Services under Consideration for Purchase:

Major Defense Equipment (MDE):

Six (6) M142 High Mobility Artillery Rocket System (HIMARS) Launchers

Thirty-six (36) M30A2 Guided Multiple Launch Rocket System (GMLRS) Alternative Warhead (AW) Missile Pods with Insensitive Munitions Propulsion System (IMPS) and Frequency Modulated Continuous Wave—Directional Doppler Ranging (FMCW-DDR) Proximity Height-of-Burst (HOB) Sensor Capability

Thirty-six (36) M31A2 GMLRS Unitary High Explosive (HE) Missile Pods with IMPS and FMCW-DDR Proximity HOB Sensor Capability

Thirty-six (36) XM403 Extended Range GMLRS (ER GMLRS) Alternative Warhead AW Missile Pods with IMPS and Side Mounted Proximity Sensor (SMPS) HOB Capability

Thirty-six (36) XM404 Extended Range GMLRS ER GMLRS Unitary Pods with IMPS and SMPS HOB Capability

Eighteen (18) M57 Army Tactical Missile System (ATACMS) Missile Pods

Non-MDE:

Also included are M28A2 Low Cost Reduced Range Practice Rocket (LCRRPR) pods; ruggedized laptops; training equipment; publications for HIMARS and munitions/missiles; and other related elements of program and logistic support.

(iv) Military Department: Army (EN-B-UFG)

(v) Prior Related Cases, if any: EN-B-PAY

(vi) Sales Commission, Fee, etc., Paid, Offered, or Agreed to be Paid: None known at this time.

(vii) Sensitivity of Technology Contained in the Defense Article or Defense Services Proposed to be Sold: See Attached Annex

(viii) Date Report Delivered to Congress: July 15, 2022

* As defined in Section 47(6) of the Arms Export Control Act.

POLICY JUSTIFICATION

Estonia—M142 High Mobility Artillery Rocket System (HIMARS)

The Government of Estonia has requested to purchase six (6) M142 HIMARS Launchers; thirty-six (36) M30A2 GMLRS Alternative Warhead AW Missile Pods with IMPS and Frequency Modulated Continuous Wave—Directional Doppler Ranging (FMCW-DDR) Proximity Height-of-Burst (HOB) Sensor Capability; thirty-six (36) M31A2 GMLRS Unitary High Explosive (HE) Missile Pods with IMPS and FMCW-DDR Proximity HOB Sensor Capability; thirty-six (36) XM403 ER GMLRS Alternative Warhead AW Missile Pods with IMPS and Side Mounted Proximity Sensor (SMPS) HOB Capability; thirty-six (36) XM404 ER GMLRS Unitary Pods with IMPS and SMPS HOB Capability; and eighteen (18) M57 ATACMS Missile Pods. Also included are M28A2 LCRRPR pods; ruggedized laptops; training equipment; publications for HIMARS and munitions/missiles; and other related elements of program and logistic support. The total estimated cost is $500 million.

This proposed sale will support the foreign policy and national security of the United States by improving the security of a NATO ally that continues to be an important force for political stability and economic progress in Europe. This sale is consistent with U.S. initiatives to provide key allies in the region with modern systems that will enhance interoperability with U.S. forces and increase security.

The proposed sale will contribute to Estonia's military goals of updating capability while further enhancing interoperability with the United States and other allies. Estonia intends to use these defense articles and services to modernize its armed forces and expand its capability to strengthen its homeland defense and deter regional threats. Estonia will have no difficulty absorbing this equipment into its armed forces.

The proposed sale of this equipment and support will not alter the basic military balance in the region.

The principal contractor will be Lockheed Martin, Grand Prairie, TX. There are no known offset agreements proposed in connection with this potential sale.

Implementation of this proposed sale may require the assignment of approximately fifteen (15) U.S. Government representatives and up to fifteen (15) contractor representatives to Estonia at any given time, during the delivery, training, integration, and testing of the HIMARS capability.

There will be no adverse impact on U.S. defense readiness as a result of this proposed sale.

Transmittal No. 22-35

Notice of Proposed Issuance of Letter of Offer Pursuant to Section 36(b)(1) of the Arms Export Control Act, as amended

(vii) Sensitivity of Technology

1. The M142 HIMARS is a C-130 transportable wheeled launcher mounted on a 5-ton Family of Medium Tactical Vehicles truck chassis. HIMARS is the modern Army-fielded version of the M270 Multiple Launch Rocket System (MLRS) launcher, and can fire all of the MLRS Family of Munitions/Missiles (FOM) that includes GMLRS, ER GMLRS, and the ATACMS. Utilizing the FOM, the HIMARS can engage targets between 15 and 300 kilometers with Global Positioning System/Precise Positioning Service (GPS/PPS)-aided precision accuracy.

2. The GMLRS M31A2 Unitary is the Army's primary munition for units fielding the M142 HIMARS and M270Al MLRS Launchers. The M31A2 Unitary is a solid propellant artillery rocket that uses GPS/PPS-aided inertial guidance to accurately and quickly deliver a single high-explosive blast fragmentation warhead to targets at ranges from 15-70 kilometers. The rockets are fired from a launch pod container that also serves as the storage and transportation container for the rockets. Each rocket pod holds six (6) total rockets.

3. The M30A2 GMLRS Alternative Warhead AW shares a greater than 90% commonality with the M31A1/A2 Unitary. The primary difference between the GMLRS Unitary and GMLRS AW is the replacement of the Unitary high explosive warhead with a 200-pound fragmentation warhead of pre-formed tungsten penetrators which is optimized for effectiveness against a large area and imprecisely located targets. The munitions otherwise share a common motor, GPS/PPS-aided inertial guidance and control system, a multi-option fuzing height of burst capability, and effective range of 15-70 km.

4. The M57 ATACMS Unitary is a conventional, semi-ballistic missile that utilizes a 500-pound high explosive warhead. It has an effective range of between 70 and 300 kilometers, and has increased lethality and accuracy over previous versions of the ATACMS due to a GPS/PPS aided navigation system.

5. The ER GMLRS missiles provide a persistent, responsive, all-weather, rapidly deployed, long range, surface-to-surface, area- and point-precision strike capability. The XM403 AW, like GMLRS M30A1/A2, carries a 200-pound fragmentation assembly filled with high explosives which, upon detonation, accelerates two layers of preformed penetrators optimized for effectiveness against large area and imprecisely located targets. The XM404 Unitary, like GMLRS M31A1/A2, has a 200-pound class unitary with a steel blast-fragmentation case, designed for low collateral damage against point targets. Both variants of the ER GMLRS missiles maintain the accuracy and effectiveness demonstrated by the baseline GMLRS out to a maximum range of 150 km (double that of the GMLRS capability) while also including a new HOB capability referred to as the Side Mounted Proximity Sensor (SMPS) HOB capability.

6. The highest level of classification of defense articles, components, and services included in this potential sale is SECRET.

7. If a technologically advanced adversary were to obtain knowledge of the specific hardware and software elements, the information could be used to develop countermeasures that might reduce weapon system effectiveness or be used in the development of a system with similar or advanced capabilities.

8. A determination has been made that Estonia can provide substantially the same degree of protection for the sensitive technology being released as the U.S. Government. This sale is necessary in furtherance of the U.S. foreign policy and national security objectives outlined in the Policy Justification.

9. All defense articles and services listed in this transmittal have been authorized for release and export to the Government of Estonia.

[FR Doc. 2024-12391 Filed 6-5-24; 8:45 am]

BILLING CODE 6001-FR-P